DEPARTMENT OF COMMERCE

National Oceanic and Atmospheric Administration

[Docket Number: 060804210-6210-01]

Science Advisory Board; The Minority Report of the NOAA Science Advisory Board's Hurricane Intensity Research Working Group, External Review of NOAA's Hurricane Intensity Research and Development Enterprise

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability for public comment of the minority report of the SAB Hurricane Intensity Research Working Group (here called the HIRWG) external review of NOAA's Hurricane Intensity Research and Development Enterprise. The report of the HIRWG has been prepared pursuant to the request from the Under Secretary of Commerce for Oceans and Atmosphere to the SAB to conduct an external review of NOAA's Hurricane Intensity research and development enterprise. A preliminary report was presented for a 30-day public comment period starting on May 24, 2006. Since that time, a minority report has been written that presents a view point of a minority of the HIRWG. This minority report is now being submitted for public comment.

DATES: Comments on this minority report must be submitted by 5 p.m. EDT on September 15, 2006.

ADDRESSES: The Minority Report of the HIRWG will be available on the NOAA Science Advisory Board Web site at http://www.sab.noaa.gov/reports/HIRWG_Minority_Report_0806.pdf. For reference, the preliminary report may also be viewed at http://www.sab.noaa.gov/Reports/Reports.html.

The public is encouraged to submit comments electronically to noaa.sab.comments2@noaa.gov. For individuals who do not have access to a computer, comments may be submitted in writing to: NOAA Science Advisory Board (SAB) c/o Dr. Cynthia Decker, Silver Spring Metro Center Bldg 3 Room 11117, 1315 East-West Highway, Silver Spring, Maryland 20910.

FOR FURTHER INFORMATION CONTACT: Dr. Cynthia Decker, Executive Director, Science Advisory Board, NOAA, Rm. 11117, 1315 East-West Highway, Silver Spring, Maryland 20910. (Phone: 301-713-9121, Fax: 301-713-3515, E-mail: Cynthia.Decker@noaa.gov) during normal business hours of 9 a.m. to 5 p.m. Eastern Time, Monday through Friday, or visit the NOAA SAB Web site at http://www.sab.noaa.gov.

SUPPLEMENTARY INFORMATION: The report of the HIRWG is composed pursuant to the request from the Under Secretary of Commerce for Oceans and Atmosphere to the SAB to conduct an external review of NOAA's hurricane intensity research and development enterprise. This review addresses questions and proposes recommendations regarding the appropriateness of the mix of scientific activities conducted and/or sponsored by NOAA to its mission and on the organization of NOAA hurricane intensity research and science enterprise.

The minority report of the HIRWG has been drafted to provide additional viewpoints to the majority report of the HIRWG. The minority report provides alternative ideas regarding modeling and prediction activities, observations and data collection, laboratory experiments, and NOAA's organization in relation to hurricane intensity research and development.

The SAB is chartered under the Federal Advisory Committee Act and is the only Federal Advisory Committee with the responsibility to advise the Under Secretary on long- and short-term strategies for research, education, and application of science to resource management and environmental assessment and prediction.

NOAA welcomes all comments on the content of the minority report. We also request comments on any inconsistencies perceived within the report and possible omissions of important topics or issues. For any shortcoming noted within the draft report, please propose specific remedies. This minority report is being issued for comment only and is not intended for interim use. Suggested changes will be incorporated where appropriate, and a final report will be posted on the SAB Web site.

Please follow these instructions for preparing and submitting comments. Using the format guidance described below will facilitate the processing of reviewer comments and assure that all comments are appropriately considered. Please provide background information about yourself on the first page of your comments: your name(s), organization(s), area(s) of expertise, mailing address(es), telephone and fax numbers, and e-mail address(es). Overview comments on the section should follow your background information and should be numbered. Comments that are specific to particular pages, paragraphs or lines of the section should follow any overview comments and should identify the page numbers to which they apply. Please number all pages and place your name at the top of each page.

Dated: August 9, 2006.
Mark E. Brown,
Chief Financial Officer/Chief Administrative Officer, Office of Oceanic and Atmospheric Research, National Oceanic and Atmospheric Administration.

[FR Doc. E6-13388 Filed 8-15-06; 8:45 am]

BILLING CODE 3510-22-P